DEPARTMENT OF HOUSING AND URBAN DEVELOPMENT

[Docket No. FR- 5849-N-10]

Notice of a Federal Advisory Committee; Manufactured Housing Consensus Committee; Teleconference

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for a teleconference meeting of the MHCC. The teleconference meeting is open to the public. The agenda provides an opportunity for citizens to comment on the business before the MHCC.

DATES: The teleconference meeting will be held on December 12, 2016, 1:00 p.m. to 4:00 p.m. Eastern Standard Time (EST). The teleconference numbers are: U.S. toll-free: 1-866-628-5137, and Participant Code: 4325435. To access the webinar use the following link: https://zoom.us/j/516259960.

FOR FURTHER INFORMATION CONTACT: Pamela Beck Danner, Administrator and Designated Federal Official (DFO), Office of Manufactured Housing Programs, Department of Housing and Urban Development, 451 Seventh Street SW., Room 9168, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make oral comments on the business of the MHCC are encouraged to register by or before December 8, 2016, by contacting Home Innovation Research Labs, Attention: Kevin Kauffman, 400 Prince Georges Boulevard, Upper Marlboro, MD 20774; or email to: mhcc@homeinnovation.com or call 1-888-602-4663. Written comments are encouraged. The MHCC strives to accommodate citizen comments to the extent possible within the time constraints of the meeting agenda. Advance registration is strongly encouraged. The MHCC will also provide an opportunity for public comment on specific matters before the MHCC.

Tentative Agenda:

December 12, 2016, from 1:00 p.m. to 4:00 p.m., Eastern Standard Time, (EST)

I. Call to Order—Chair & Designated Federal Officer (DFO)

II. Opening Remarks—Chair

III. Roll Call—Administering Organization (AO)

IV. Administrative Announcements—DFO and AO

V. Approval of Minutes from October 25-27, MHCC Meeting

VI. Regulatory Enforcement Subcommittee Report:

• Action Item 8: Foundation Systems Requirements in Freezing Climates

VII. Open Discussion

VIII. Public Comments

IX. Wrap Up—DFO/AO

X. Adjourn 4:00 p.m.

Dated: November 16, 2016.
Pamela Beck Danner,
Administrator, Office of Manufactured Housing Programs.

[FR Doc. 2016-27967 Filed 11-18-16; 8:45 am]

BILLING CODE P